DEPARTMENT OF ENERGY

Federal Energy Regulatory Commission

[Docket No. RP98-53-000]

Kinder Morgan Interstate Gas Transmission, LLC; Notice of Informal Settlement Conference

March 30, 2001.

An informal settlement conference in the above docket will be held on Tuesday, April 10, 2001, to address the outstanding ad valorem tax issues on the Kinder Morgan Interstate Gas Transmission, LLC system. The conference will be held in the offices of Kinder Morgan, 370 Van Gordon Street, Lakewood, Colorado 80228. The informal settlement conference will begin at 10:30 a.m.

All interested parties in the above docket are requested to attend the informal settlement conference. If a party has any questions regarding the conference, please call Richard Miles, the Director of the Commission's Dispute Resolution Service. His telephone number is 1 877 FERC ADR (337-2237) or 202/208-0702 and his e-mail address is richard.miles@ferc.fed.us. If you plan on attending the conference, please contact Ben Breland at Kinder Morgan by fax at 303-763-3116.

David P. Boergers,
Secretary.

[FR Doc. 01-8381 Filed 4-4-01; 8:45 am]

BILLING CODE 6717-01-M